DEPARTMENT OF COMMERCE

International Trade Administration

[A-533-502]

Correction to Notice of Initiation of Antidumping and Countervailing Duty Administrative Reviews

AGENCY: Enforcement and Compliance, International Trade Administration, Department of Commerce.

FOR FURTHER INFORMATION CONTACT: Brenda E. Waters, Office of AD/CVD Operations, Customs Liaison Unit, Enforcement and Compliance, International Trade Administration, U.S. Department of Commerce, 1401 Constitution Avenue NW., Washington, DC 20230; telephone: (202) 482-4735.

SUPPLEMENTARY INFORMATION: On July 7, 2016, the Department of Commerce (the Department) published Initiation of Antidumping and Countervailing Duty Administrative Reviews; 81 FR 44260 (July 7, 2016) (Initiation Notice) in which the Department inadvertently initiated an antidumping duty administrative review of Certain Welded Carbon Steel Standard Pipes and Tubes from India. The Department did not receive a request for review covering the period May 1, 2015, through April 30, 2016, with respect to any companies, as such, we are not initiating a review with respect to this order. In addition, in the Initiation Notice the Department misspelt Overseas Distribution Services Inc. as Overseas Distrubution Services Inc.¹ This notice serves as a correction to the Initiation Notice.

¹ See Initiation Notice, 81 FR at 44266.

Dated: July 14, 2016.
Christian Marsh,
Deputy Assistant Secretary for Enforcement and Compliance.

[FR Doc. 2016-17205 Filed 7-20-16; 8:45 am]

BILLING CODE 3510-DS-P